DEPARTMENT OF HEALTH AND HUMAN SERVICES

Centers for Disease Control and Prevention

[Program Announcement 01051]

Grant for a Program To Promote Training and Education in Basic Life Support for Children and Adolescents; Notice of Availability of Funds

A. Purpose

The Centers for Disease Control and Prevention (CDC) announces the availability of fiscal year (FY) 2001 funds for a grant program to promote training and education in Basic Life Support for children and adolescents. This program addresses the “Healthy People 2010 focus area of Injury and Violence Prevention.” The purpose of this program is to reduce child and adolescent morbidity and mortality sustained by illness and injury.

B. Eligible Applicants

Assistance for this project will be provided only to the Save a Life Foundation. FY 2001 Federal appropriations specifically directs CDC to award funds to the Save a Life Foundation. No other applications are solicited.

Note: Title 2 of the United States Code, chapter 26, section 1611 states that an organization described in section 501(c)(4) of the Internal Revenue Code of 1986 that engages in lobbying activities is not eligible to receive Federal funds constituting an award, grant, cooperative agreement, contract, loan, or any other form.

C. Availability of Funds

Approximately $810,000 is available in FY 2001 to fund one award. It is expected that the award will begin on or about September 1, 2001, and will be made for a 12-month budget period within a project period of one year. Funding estimates may change.

D. Where to Obtain Additional Information

For program technical assistance, contact:

Paul Burlack, Centers for Disease Control and Prevention, National Center for Injury Prevention and Control, 4770 Buford Highway N.E., Mailstop F42, Atlanta, GA 30341-3724, Telephone (770) 488-4713, Email: PBurlack@cdc.gov

To obtain business management technical assistance, contact:

Angelia Hill, Grants Management Specialist, Grants Management Branch, Procurement and Grants Office, Announcement 01051, Centers for Disease Control and Prevention (CDC), 2920 Brandywine Road, Suite 3000, Mailstop E13, Atlanta, GA 30341-4146, Telephone 770-488-2785, Email: aph8@cdc.gov

Dated: May 1, 2001.
John L. Williams,
Director, Procurement and Grants Office, Centers for Disease Control and Prevention (CDC).

[FR Doc. 01-11381 Filed 5-4-01; 8:45 am]

BILLING CODE 4163-18-P